INTERNATIONAL TRADE COMMISSION

[Investigations Nos. 701-TA-437 and 731-TA-1060 and 1061 (Final)]

Carbazole Violet Pigment 23 From China and India

Determination

On the basis of the record ¹ developed in the subject investigations, the United States International Trade Commission (Commission) determines, pursuant to sections 705(b) and 735(b) of the Tariff Act of 1930 (19 U.S.C. 1671d(b) and 1673d(b)) (the Act), that an industry in the United States is materially injured by reason of imports from China and India of carbazole violet pigment 23, provided for in subheading 3204.17.90 of the Harmonized Tariff Schedule of the United States, that have been found by the Department of Commerce (Commerce) to be subsidized by the Government of India and to be sold in the United States at less than fair value (LTFV).²

¹ The record is defined in sec. 207.2(f) of the Commission's Rules of Practice and Procedure (19 CFR 207.2(f)).

² The Commission further determines that critical circumstances do not exist with respect to those imports of the subject merchandise from China that were subject to the affirmative critical circumstances determination by the Department of Commerce.

Background

The Commission instituted these investigations effective November 21, 2003, following receipt of a petition filed with the Commission and Commerce by Nation Ford Chemical Co., Fort Mill, SC, and Sun Chemical Corp., Cincinnati, OH. The final phase of these investigations was scheduled by the Commission following notification of preliminary determinations by Commerce that imports of carbazole violet pigment 23 from India were being subsidized within the meaning of section 703(b) of the Act (19 U.S.C. 1671b(b)) and that imports of carbazole violet pigment 23 from China and India were being sold at LTFV within the meaning of section 733(b) of the Act (19 U.S.C. 1673b(b)). Notice of the scheduling of the final phase of the Commission's investigations and of a public hearing to be held in connection therewith was given by posting copies of the notice in the Office of the Secretary, U.S. International Trade Commission, Washington, DC, and by publishing the notice in the Federal Register of July 23, 2004 (69 FR 44059). The hearing was held in Washington, DC, on November 10, 2004, and all persons who requested the opportunity were permitted to appear in person or by counsel.

The Commission transmitted its determinations in these investigations to the Secretary of Commerce on December 22, 2004. The views of the Commission are contained in USITC Publication 3744 (December 2004), entitled Carbazole Violet Pigment 23 from China and India: Investigations Nos. 701-TA-437 and 731-TA-1060 and 1061 (Final).

By order of the Commission.
Issued: December 21, 2004.
Marilyn R. Abbott,
Secretary to the Commission.

[FR Doc. 04-28340 Filed 12-27-04; 8:45 am]

BILLING CODE 7020-02-P